SMALL BUSINESS ADMINISTRATION

13 CFR Parts 121 and 124

RIN 3245-AFS3

Small Business Size Regulations; 8(a) Business Development/Small Disadvantaged Business Status Determinations

AGENCY: U.S. Small Business Administration.

ACTION: Proposed rule; notice of extension of comment period.

SUMMARY: On October 28, 2009, the U.S. Small Business Administration (SBA or Agency) proposed changes to its 8(a) Business Development (8(a) BD) and Small Disadvantaged Business (SDB) programs as well as its size regulations. The rule proposes to make a number of changes to the regulations governing the 8(a) BD and SDB programs, and several changes to SBA's size regulations. Some of the changes involve technical issues. Other changes are more substantive and result from SBA's experience in implementing the current regulations. SBA requested comments on the various approaches for the proposed changes in the proposed rulemaking. The proposed rule provided a 60-day comment period closing on December 28, 2009.

SBA is extending the comment period an additional 30 days to January 28, 2010. We are extending the comment period because SBA believes that affected businesses need more time to adequately respond.

DATES: The comment period for the proposed rule published on October 28, 2009 (74 FR 55694), is extended until January 28, 2010.

ADDRESSES: You may submit comments, identified by RIN: 3245-AF53, by any of the following methods:

• Federal eRulemaking Portal: http://www.regulations.gov. Follow the instructions for submitting comments.

• Mail, for paper, disk, or CD-ROM submissions: Joseph Loddo, Associate Administrator, Office of Business Development, 409 Third Street, SW., Mail Code, Washington, DC 20416.

• Hand Delivery/Courier: Joseph Loddo, Associate Administrator, Office of Business Development. 409 Third Street, SW., Washington, DC 20416.

SBA will post all comments on http://www.regulations.gov. If you wish to submit confidential business information (CBI) as defined in the User Notice at http://www.Regulations.gov, please submit the information to LeAnn Delaney, Deputy Associate Administrator, Office of Business Development, 409 Third Street, SW., Washington, DC 20416, or send an e-mail to leann.delaney@sba.gov. Highlight the information that you consider to be CBI and explain why you believe SBA should hold this information as confidential. SBA will review the information and make the final determination of whether it will publish the information or not.

FOR FURTHER INFORMATION CONTACT: LeAnn Delaney, Deputy Associate Administrator, Office of Business Development, at (202) 205-5852, or leann.delaney@sba.gov.

SUPPLEMENTARY INFORMATION: On October 28, 2009 (74 FR 55694-01), SBA issued a Notice of Proposed Rulemaking (NPRM). In that document, SBA proposed to make a number of changes to the regulations governing the 8(a) BD and SDB programs, and several changes to SBA's size regulations. Some of the changes involve technical issues. Other changes are more substantive and result from SBA's experience in implementing the current regulations. SBA proposes to make a number of changes to the regulations governing the 8(a) BD program and six related changes to the size regulations. SBA requested comments on the various approaches for the proposed changes. Initially, SBA established a sixty (60) day public comment period for its NPRM, with a closing date of December 28, 2009. SBA has decided to extend the comment period due to the significance of the rule.

The Small Business Administration (SBA) hereby provides notice that it is extending the public comment period for its Notice of Proposed Rulemaking by thirty (30) days. Comments must he received no later than January 28, 2010. Given the scope of the proposal and the nature of the issues raised by the comments received to date, SBA believes that affected businesses need more time to review the proposal and prepare their comments. Additionally, SBA will hold a series of public hearings and tribal consultations on this NPRM in certain cities throughout the country, beginning in December 2009, and anticipates receiving comments throughout the public hearing process.

Authority: 15 U.S.C. 632, 634(b)(6), 636(b), 637(a), 644 and 662(5); and Public Law 105-135, sec. 401 et seq., 111 Stat. 2592.

Dated: December 2, 2009.
Joseph G. Jordan,
Associate Administrator, Government Contracting and Business Development.

[FR Doc. E9-29228 Filed 12-8-09; 8:45 am]

BILLING CODE 8025-01-P